DEPARTMENT OF THE TREASURY

Bureau of Alcohol, Tobacco and Firearms

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Alcohol, Tobacco and Firearms within the Department of the Treasury is soliciting comments concerning the Taxable Articles Without Payment of Tax.

DATES: Written comments should be received on or before October 21, 2002 to be assured of consideration.

ADDRESSES: Direct all written comments to Bureau of Alcohol, Tobacco and Firearms, Linda Barnes, 650 Massachusetts Avenue, NW., Washington, DC 20226, (202) 927-8930.

FOR FURTHER INFORMATION CONTACT: Requests for additional information or copies of the form(s) and instructions should be directed to Robert P. Ruhf, Regulations Division, 650 Massachusetts Avenue, NW., Washington, DC 20226, (202) 927-8210.

SUPPLEMENTARY INFORMATION: Title: Taxable Articles Without Payment of Tax.

OMB Number: 1512-0119.

Form Number: ATF F 5200.14.

Abstract: ATF collects the information on ATF F 5200.14 to ensure that ATF protects the revenue and promotes compliance with laws and regulations. ATF gathers information about the specific activities listed on ATF F 5200.14 to monitor taxable articles. Also, ATF examines and verifies entries so that unusual activities, errors and omissions may be identified and follow-up action may be taken to protect the Government's revenue.

Current Actions: ATF F 5200.14 has been revised. The title of the form has been changed from Notice of Removal of Tobacco Products, Cigarette Papers or Cigarette Tubes to Taxable Articles Without Payment of Tax. The revised form will increase the accuracy of submissions by persons who make entries on the form. Follow-up contact will reduce among manufacturers, proprietors of export warehouses or customs manufacturing warehouses, other individuals and ATF due to additional instructions. The form has been revised to the plain language format.

Type of Review: Revision.

Affected Public: Business or other for-profit, individuals or households, Federal Government.

Estimated Number of Respondents: 272.

Estimated Total Annual Burden Hours: 15,000.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: August 8, 2002.
William T. Earle,
Assistant Director (Management) CFO.

[FR Doc. 02-20878 Filed 8-19-02; 8:45 am]

BILLING CODE 4810-31-P